DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on May 1, 2025. See Supplementary Information section for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On May 1, 2025, OFAC determined that one or more persons identified below meet one or more of the criteria for the imposition of sanctions set forth in section 1(a)-(c) of Executive Order 14059 of December 15, 2021, “Imposing Sanctions on Foreign Persons Involved in the Global Illicit Drug Trade,” 86 FR 71549 (E.O. 14059). OFAC has selected to impose blocking sanctions pursuant to section 2(a)(i) of E.O. 14059 on the persons identified below.

OFAC further determined that one or more of the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. MORFIN MORFIN, Cesar (a.k.a. “PRIMITO”; a.k.a. “PRIMO”), Tamaulipas, Mexico; Jalisco, Mexico; Mexico City, Mexico; Colima, Mexico; DOB 31 Dec 1987; POB Colima, Mexico; nationality Mexico; Gender Male; Secondary sanctions risk: section 1(b) of Executive Order 13224, as amended by Executive Order 13886; C.U.R.P. MOMC871231HCMRRS00 (Mexico) (individual) [SDGT] [ILLICIT-DRUGS-EO14059] (Linked To: CARTEL DE JALISCO NUEVA GENERACION).

Designated pursuant to section (1)(a)(i) of E.O. 14059 for having engaged in, or attempted to engage in, activities or transactions that have materially contributed to, or pose a significant risk of contributing to, the international proliferation of illicit drugs or their means of production as well as pursuant to section (1)(b)(iii) of E.O. 14059 for being owned, controlled, or directed by, or having acted or purported to act for or on behalf of, directly or indirectly, Cartel De Jalisco Nueva Generacion, a person sanctioned pursuant to E.O. 14059.

Designated pursuant to section 1(a)(iii)(A) of E.O. 13224, as amended, for being owned, controlled, or directed by, or having acted or purported to act for or on behalf of, directly or indirectly, Cartel De Jalisco Nueva Generacion, a person whose property and interests in property are blocked pursuant to E.O. 13224, as amended.

2. MORFIN MORFIN, Remigio, Hidalgo, Mexico; DOB 21 Oct 1991; POB Colima, Mexico; nationality Mexico; Gender Male; C.U.R.P. MOMR911021HCMRRM07 (Mexico) (individual) [ILLICIT-DRUGS-EO14059].

Designated pursuant to section (1)(a)(i) of E.O. 14059 for having engaged in, or attempted to engage in, activities or transactions that have materially contributed to, or pose a significant risk of contributing to, the international proliferation of illicit drugs or their means of production.

3. MORFIN MORFIN, Alvaro Noe, Tamaulipas, Mexico; DOB 20 Dec 1978; POB Jalisco, Mexico; nationality Mexico; Gender Male; C.U.R.P. MOMA781220HJCRRL05 (Mexico) (individual) [ILLICIT-DRUGS-EO14059].

Designated pursuant to section (1)(a)(i) of E.O. 14059 for having engaged in, or attempted to engage in, activities or transactions that have materially contributed to, or pose a significant risk of contributing to, the international proliferation of illicit drugs or their means of production.

Entities

1. GRUPO JALA LOGISTICA, S.A. DE C.V., 2nd Oficina A entre AGS y Puebla 8, Rio Bravo, Tamaulipas 88920, Mexico; Secondary sanctions risk: section 1(b) of Executive Order 13224, as amended by Executive Order 13886; Organization Established Date 07 Dec 2020; Organization Type: Transportation and storage; alt. Organization Type: Extraction of crude petroleum; alt. Organization Type: Extraction of natural gas; Folio Mercantil No. N-2020076613 (Mexico) [SDGT] [ILLICIT-DRUGS-EO14059].

Designated pursuant to section (1)(b)(iii) of E.O. 14059 for being owned, controlled, or directed by, or having acted or purported to act for or on behalf of, directly or indirectly, Cesar Morfin Morfin, a person sanctioned pursuant to E.O. 14059.

Designated pursuant to section 1(a)(iii)(A) of E.O. 13224, as amended, for being owned, controlled, or directed by, or having acted or purported to act for or on behalf of, directly or indirectly, Cesar Morfin Morfin, a person whose property and interests in property are blocked pursuant to E.O. 13224, as amended.

2. SLA. SERVICIOS LOGISTICOS AMBIENTALES, S.A. DE C.V., Ave Central #450, Reynosa, Tamaulipas 88730, Mexico; Secondary sanctions risk: section 1(b) of Executive Order 13224, as amended by Executive Order 13886; Organization Established Date 14 Oct 2014; Organization Type: Transportation and storage; Folio Mercantil No. N-2021049876 (Mexico) [SDGT] [ILLICIT-DRUGS-EO14059].

Designated pursuant to section (1)(b)(iii) of E.O. 14059 for being owned, controlled, or directed by, or having acted or purported to act for or on behalf of, directly or indirectly, Cesar Morfin Morfin, a person sanctioned pursuant to E.O. 14059.

Designated pursuant to section 1(a)(iii)(A) of E.O. 13224, as amended, for being owned, controlled, or directed by, or having acted or purported to act for or on behalf of, directly or indirectly, Cesar Morfin Morfin, a person whose property and interests in property are blocked pursuant to E.O. 13224, as amended.

Lisa M. Palluconi,
Acting Director, Office of Foreign Assets Control.

[FR Doc. 2025-10108 Filed 6-3-25; 8:45 am]

BILLING CODE 4810-AL-P